DEPARTMENT OF STATE

[Public Notice 6567]

Determination and Certification Under Section 490(b)(1)(A) of the Foreign Assistance Act Relating to the Largest Exporting and Importing Countries of Certain Precursor Chemicals

Pursuant to Section 490(b)(1)(A) of the Foreign Assistance Act of 1961, as amended, I hereby determine and certify that the top five exporting and importing countries and territories of pseudoephedrine and ephedrine (India, Germany, Singapore, Belgium, United Kingdom, China, Taiwan, Argentina, South Korea, Switzerland, Indonesia, and Thailand) have cooperated fully with the United States, or have taken adequate steps on their own, to achieve full compliance with the goals and objectives established by the United Nations Convention Against Illicit Traffic in Narcotic Drugs and Psychotropic Substances.

This determination and certification shall be published in the Federal Register, and copies shall be provided to the Congress together with the accompanying Memorandum of Justification.

Dated: March 3, 2009.
James B. Steinberg,
Deputy Secretary of State, Department of State.

[FR Doc. E9-7675 Filed 4-3-09; 8:45 am]

BILLING CODE 4710-17-P